DEPARTMENT OF THE TREASURY

President's Commission on the United States Postal Service

AGENCY: Department of the Treasury, Departmental Offices.

ACTION: Notice and request for comments.

SUMMARY: Now that the Commission has concluded the testimonial portion of its work, it will accept final written comments from any party who wishes to submit them for consideration.

The Commission has established three methods by which final comments can be submitted for consideration and review:

1. Transmission by E-mail to the following address: pcusps_final@do.treas.gov. Statements can be embedded in the E-mail as ASCII text or sent as a MS Word or ASCII text attachment. Do not include artwork or other graphic elements.

2. Stored on 3½ inch high density computer disk as a MS word or ASCII text document (Windows format only) and mailed or hand-delivered to: President's Commission on the United States Postal Service, 1120 Vermont Avenue, NW., Suite 971, Washington, DC 20005.

3. Typewritten statements may be mailed or hand-delivered to: President's Commission on the United States Postal Service, 1120 Vermont Avenue, NW., Suite 971, Washington, DC 20005.

DATES: E-mail transmissions of all final comments must be received by the Commission no later than 5 p.m. eastern standard time on Tuesday, July 8. Mailed submissions must be postmarked no later than 5 p.m. eastern standard time on Tuesday, July 8.

To be accepted by the Commission, final comments must not exceed a maximum length of 10 pages of double-spaced written text.

SUPPLEMENTARY INFORMATION: Please be aware that the Commission may, at its discretion, post any final comments it receives on the Commission's Web site at www.treas.gov/offices/domestic-finance/usps.

FOR FURTHER INFORMATION CONTACT: If you have any questions about this final-comment process, please contact Jana Sinclair White or James Cox of the Commission staff at (202) 622-5930.

Dated: June 12, 2003.
Roger Kodat,
Designated Federal Official.

[FR Doc. 03-15319 Filed 6-17-03; 8:45 am]

BILLING CODE 4811-16-P